OFFICE OF THE UNITED STATES TRADE REPRESENTATIVE

[Docket No. 301-121]

Notice of Change in Location of Public Hearing: Intellectual Property Laws and Practices of the Government of Ukraine

AGENCY: Office of the United States Trade Representative.

ACTION: Notice.

SUMMARY: The location of the public hearing scheduled for April 27, 2001 in the Section 302 investigation of the intellectual property laws and practices of the Government of Ukraine has been changed to the Office of the United States Trade Representative, 1724 F Street, NW., Rooms 1 and 2, Washington, DC.

FOR FURTHER INFORMATION CONTACT: Sybia Harrison, Staff Assistant to the Section 301 Committee, (202) 395-3419; or William Busis, Associate General Counsel, (202) 395-3150.

SUPPLEMENTARY INFORMATION: In a notice published on April 6, 2001 (66 FR 18,346), the Office of the United States Trade Representative announced the initiation of a Section 302 investigation of the intellectual property laws and practices of the Government of Ukraine, and scheduled a public hearing for April 27, 2001. The location of the public hearing has been changed to the Office of the United States Trade Representative, 1724 F Street, NW., Rooms 1 and 2, Washington, DC. The hearing will begin at 10 a.m. on April 27, 2001.

William Busis,
Chairman, Section 301 Committee.

[FR Doc. 01-10269 Filed 4-24-01; 8:45 am]

BILLING CODE 3190-01-U